DEPARTMENT OF HEALTH AND HUMAN SERVICES

Agency for Healthcare Research and Quality

Notice of Correction—National Advisory Council for Healthcare Research and Quality; Request for Nominations for Public Members

The original notice was published in the Federal Register on May 6, 2004 under Volume 69, Number 88, Pages 25391-25392 (http://a257.g.akamaitech.net/7/257/2422/14mar 20010800/edocket.access.gpo.gov/2004/04-10283.htm). With this notice, the Agency for Healthcare Research and Quality (AHRQ) is informing the public that the correct contact numbers are: Phone #: 301-427-1330 and Fax # 301-427-1341.

Dated: May 13, 2004.
Carolyn M. Clancy,
Director.

[FR Doc. 04-11372 Filed 5-19-04; 8:45 am]

BILLING CODE 4160-90-M